OVERSEAS PRIVATE INVESTMENT CORPORATION

Sunshine Act Cancellation Notice—OPIC June 1, 2016 Public Hearing

OPIC's Sunshine Act notice of its Public Hearing in Conjunction with each Board meeting was published in the Federal Register (Volume 81, Number 90, Pages 28906-28907) on Tuesday, May 10, 2016. No requests were received to provide testimony or submit written statements for the record; therefore, OPIC's public hearing scheduled for 2 p.m., June 1, 2016 in conjunction with OPIC's June 9, 2016 Board of Directors meeting has been cancelled.

CONTACT PERSON FOR INFORMATION: Information on the hearing cancellation may be obtained from Catherine F.I. Andrade at (202) 336-8768, or via email at Catherine.Andrade@opic.gov.

Dated: May 31, 2016.
Catherine F.I. Andrade,
OPIC Corporate Secretary.

[FR Doc. 2016-13149 Filed 5-31-16; 4:15 pm]

BILLING CODE 3210-01-P